ENVIRONMENTAL PROTECTION AGENCY

[FRL-6996-2]

Agency Information Collection Activities: Proposed Collection Renewal; Comment Request; Annual Updates of Emission Data to Aerometric Information Retrieval System

AGENCY: Environmental Protection Agency (EPA).

ACTION: Notice.

SUMMARY: In compliance with the Paperwork Reduction Act (44 U.S.C. 3501 et seq.), this document announces that EPA is planning to submit the following Information Collection Request (ICR) renewal to the Office of Management and Budget (OMB):

Annual Updates of Emission Data to Aerometric Information Retrieval System (AIRS), EPA ICR No. 916.11, OMB Control Number 2060-0088, Expiration Date 8/31/2001. Before submitting the ICR to OMB for review and approval, EPA is soliciting comments on specific aspects of the proposed information collection as described below.

DATES: Comments must be submitted on or before August 13, 2001.

ADDRESSES: United States Environmental Protection Agency; Office of Air Quality Planning and Standards; Emissions, Monitoring and Analysis Division (MD-14); Research Triangle Park, NC 27711. Interested persons may obtain a copy of the ICR without charge from www.epa.gov/ttn/chief/.

FOR FURTHER INFORMATION CONTACT: David Misenheimer; Telephone (919) 541-5473; Email: misenheimer.david@epa.gov.

SUPPLEMENTARY INFORMATION: Affected entities: Entities potentially affected by this action are State and Territorial air pollution control agencies which collect and report emissions information from stationary sources emitting at least prescribed amounts of pollutants.

Title: Annual Updates of Emission Data to Aerometric Information Retrieval System (AIRS) (OMB Control Number 2060-0088; EPA ICR No. 916.11) expiring 8/31/2001.

Abstract: This ICR deals with reports required by 40 CFR 51.321, 51.322, and 51.323. The respondents (States) are required to annually update information on stationary sources emitting at least prescribed amounts of pollutants regulated by National Ambient Air Quality Standards (NAAQS) via electronic input to EPA. EPA's Office of Air Quality Planning and Standards (OAQPS) uses the annual emission reports to update a national data base on air emissions which it has maintained since 1974. The data is used in developing emission standards, applying dispersion models, preparing national trend assessments, preparing reports to Congress, providing information to the public, and other special analyses and reports. An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: An estimated 54 States and Territorial air pollution control agencies will be required to record and report emission information on significant stationary sources on an annual basis. Reporting and record keeping of this information is estimated to involve an average of 212 hours per year by each State and Territorial air pollution control agency. This estimate includes the time needed to review instructions, search existing data sources, gather and maintain the data needed, and complete and review the collection of information. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 1, 2001.
J. David Mobley,
Acting Director; Emissions, Modeling and Analysis Division.

[FR Doc. 01-14904 Filed 6-12-01; 8:45 am]

BILLING CODE 6560-50-U